ENVIRONMENTAL PROTECTION AGENCY

[FRL-9168-6]

Final Notice of Data Availability Concerning 2010 CAIR NOX Ozone Season Trading Program New Unit Set-Aside Allowance Allocations Under the Clean Air Interstate Rule Federal Implementation Plan

AGENCY: Environmental Protection Agency (EPA).

ACTION: Notice of data availability (NODA).

SUMMARY: EPA is administering—under the Clean Air Interstate Rule (CAIR) Federal Implementation Plans (FIPs)—the CAIR NOX Ozone Season Trading Program (CAIROS) new unit set-aside allowance pools for Delaware and the District of Columbia. The CAIROS FIPs require the Administrator to determine each year by order the allowance allocations from the new unit set-aside for units in these jurisdictions whose owners and operators requested these allocations and to provide the public with the opportunity to object to the allocation determinations. On April 27, 2010, EPA issued a NODA setting forth such determinations in the Federal Register and provided an opportunity for submission of objections. Through the NODA issued today, EPA is making available to the public the Agency's determinations, after considering all objections, of CAIROS allowance allocations and denials of such allocations under the FIPs, as well as the data upon which the allocations and denials of allocations were based.

DATES: Under § 97.353(e), EPA must record, by September 1, 2010, the CAIROS new unit set-aside allowance allocations, consistent with this NODA, in the compliance accounts of units whose owners and operators successfully applied for a CAIROS new unit set-aside allowance allocation under the CAIR FIPs.

FOR FURTHER INFORMATION CONTACT: Questions concerning this action should be addressed to Robert L. Miller, U.S. Environmental Protection Agency, CAMD (6204J), 1200 Pennsylvania Ave., NW., Washington, DC 20460, telephone (202) 343-9077, and e-mail miller.robertl@epa.gov.

SUPPLEMENTARY INFORMATION: For more background and information regarding the purpose of the NODA, requirements for requesting and receiving CAIROS new unit set-aside allowances under the CAIR FIPs, procedures for allocating such allowances, the application by EPA of requirements to individual CAIROS new unit set-aside allocation requests, and the interpretation the data upon which the CAIROS new unit set-aside allocations and denial of allocations were based, see the April 27, 2010 NODA (75 FR 22172, April 27, 2010).

EPA received no objections to the determinations and data in the April 27, 2010 NODA. Therefore, EPA adopts the CAIROS new unit set-aside allocations set forth in the April 27, 2010 NODA.

EPA is not requesting objections to the data provided in this final NODA. This action constitutes a final action for determining the CAIROS new unit set-aside allowance allocations under § 97.342 and the CAIR FIPs.

Dated: June 18, 2010.
Brian McLean,
Director, Office of Atmospheric Programs.

[FR Doc. 2010-15646 Filed 6-25-10; 8:45 am]

BILLING CODE 6560-50-P